DEPARTMENT OF TRANSPORTATION

Federal Aviation Administration

14 CFR Part 39

[Docket No. FAA-2005-23249; Directorate Identifier 2005-NM-219-AD]

RIN 2120-AA64

Airworthiness Directives; Gulfstream Model GV-SP Series Airplanes

AGENCY: Federal Aviation Administration (FAA), Department of Transportation (DOT).

ACTION: Notice of proposed rulemaking (NPRM).

SUMMARY: The FAA proposes to adopt a new airworthiness directive (AD) for certain Gulfstream Model GV-SP series airplanes. This proposed AD would require an inspection to determine the serial number of the anti-skid control unit (ACU) in the right electronics equipment rack, and replacement of the ACU with a new or serviceable ACU if necessary. This proposed AD results from a report that an airplane temporarily lost normal braking function during landing rollout on a pre-delivery flight. We are proposing this AD to prevent loss of normal braking function, which could result in a runway overrun that could cause injury to flightcrew or passengers or damage to the airplane.

DATES: We must receive comments on this proposed AD by January 23, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Gulfstream Aerospace Corporation, Technical Publications Dept., P.O. Box 2206, Savannah, Georgia 31402-2206, for the service information identified in this proposed AD.

FOR FURTHER INFORMATION CONTACT: Darby Mirocha, Aerospace Engineer, Systems and Equipment Branch, ACE-119A, FAA, Atlanta Aircraft Certification Office, One Crown Center, 1895 Phoenix Boulevard, suite 450, Atlanta, Georgia 30349; telephone (770) 703-6095; fax (770) 703-6097.

SUPPLEMENTARY INFORMATION:

Comments Invited

We invite you to submit any relevant written data, views, or arguments regarding this proposed AD. Send your comments to an address listed in the ADDRESSES section. Include the docket number “FAA-2005-23249; Directorate Identifier 2005-NM-219-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

We have received a report indicating that a Gulfstream Model GV-SP series airplane temporarily lost normal braking function during landing rollout on a pre-delivery flight. The flightcrew received no indication of failure or degradation within the braking system prior to the loss of braking. Normal braking function was recovered after the wheel speed decreased through 50 knots. Investigation revealed that the temporary loss of braking was caused by incorrect capacitors installed in the anti-skid control unit (ACU). The manufacturer of the ACUs has identified a range of serial numbers that may have this defect. Loss of normal braking function, if not corrected, could result in a runway overrun that could cause injury to flightcrew or passengers or damage to the airplane.

Relevant Service Information

We have reviewed Gulfstream G500 Customer Bulletin 17, dated August 12, 2005 (for Model GV-SP (G500) series airplanes); and Gulfstream G550 Customer Bulletin 17, dated August 12, 2005 (for Model GV-SP (G550) series airplanes). The customer bulletins describe procedures for inspecting the ACU in the right electronics equipment rack to determine the serial number (S/N). If the ACU unit has an affected S/N, the customer bulletins also describe procedures for replacing the ACU unit with a new part having a S/N outside the affected range or with a serviceable part having a re-identified S/N. Accomplishing the actions specified in the service information is intended to adequately address the unsafe condition.

FAA's Determination and Requirements of the Proposed AD

We have evaluated all pertinent information and identified an unsafe condition that is likely to exist or develop on other airplanes of this same type design. For this reason, we are proposing this AD, which would require accomplishing the actions specified in the service information described previously, except as discussed under “Differences Between the Proposed AD and Customer Bulletins.”

Differences Between the AD and Customer Bulletins

Although the customer bulletins recommend accomplishing the inspection within 60 days, we have determined that extending the compliance time will not adversely affect safety for the affected fleet. In developing an appropriate compliance time for this AD, we considered the degree of urgency associated with the subject unsafe condition, the average utilization of the affected fleet, and the time necessary to perform the inspection (1 hour). In light of all of these factors, we find that a 90-day compliance time represents an appropriate interval of time for affected airplanes to continue to operate without compromising safety. This difference has been coordinated with Gulfstream.

Operators should note that, although the Accomplishment Instructions of the referenced customer bulletins describe procedures for submitting a sheet recording compliance with the customer bulletins, this AD would not require those actions. We do not need this information from operators.

Clarification of Customer Bulletins

The accomplishment instructions of the referenced customer bulletins specify contacting Gulfstream if technical assistance is required. We have included a note in this AD to clarify that any deviation from the instructions in the applicable customer bulletin must be approved as an alternative method of compliance under paragraph (h) of this AD.

Costs of Compliance

There are about 20 airplanes of the affected design in the worldwide fleet. This proposed AD would affect about 15 airplanes of U.S. registry. The proposed inspection would take about 1 work hour per airplane, at an average labor rate of $65 per work hour. Based on these figures, the estimated cost of the proposed AD for U.S. operators is $975, or $65 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the National Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Gulfstream Aerospace Corporation: Docket No. FAA-2005-23249; Directorate Identifier 2005-NM-219-AD.

Comments Due Date

(a) The FAA must receive comments on this AD action by January 23, 2006.

Affected ADs

(b) None.

Applicability

(c) This AD applies to Gulfstream Model GV-SP series airplanes, certificated in any category; serial numbers 5044-5063 inclusive.

Unsafe Condition

(d) This AD results from a report that an airplane temporarily lost normal braking function during landing rollout on a pre-delivery flight. We are issuing this AD to prevent loss of normal braking function, which could result in a runway overrun that could cause injury to flightcrew or passengers or damage to the airplane.

Compliance

(e) You are responsible for having the actions required by this AD performed within the compliance times specified, unless the actions have already been done.

Inspection and Replacement If Necessary

(f) Within 90 days after the effective date of this AD, inspect the anti-skid control unit (ACU) in the right electronics equipment rack to determine the serial number (S/N), in accordance with the Accomplishment Instructions of Gulfstream G500 Customer Bulletin 17, dated August 12, 2005 (for Model GV-SP (G500) series airplanes); or Gulfstream G550 Customer Bulletin 17, dated August 12, 2005 (for Model GV-SP (G550) series airplanes); as applicable. If the S/N of the ACU is in the affected range of S/N 355-400 inclusive: Replace the ACU with a new ACU having a S/N outside the affected range or with a serviceable ACU having a reidentified S/N, in accordance with the applicable customer bulletin.

Note 1: The Accomplishment Instructions of the Gulfstream customer bulletins instruct operators to contact Gulfstream if technical assistance is required. However, any deviation from the instructions provided in the applicable customer bulletin must be approved as an alternative method of compliance under paragraph (h) of this AD.

No Reporting Requirement

(g) Although the customer bulletins referenced in this AD specify to submit certain information to the manufacturer, this AD does not include that requirement.

AMOCs

(h)(1) The Manager, Atlanta Aircraft Certification Office, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Issued in Renton, Washington, on December 2, 2005.
Kalene C. Yanamura,
Acting Manager, Transport Airplane Directorate, Aircraft Certification Service.

[FR Doc. 05-23832 Filed 12-8-05; 8:45 am]

BILLING CODE 4910-13-P